DEPARTMENT OF ENERGY

Federal Energy Regulatory Commission

Combined Notice of Filings #1

Take notice that the Commission received the following exempt wholesale generator filings:

Docket Numbers: EG23-86-000.

Applicants: Nestlewood Solar I LLC.

Description: Nestlewood Solar I LLC submits Notice of Self-Certification of Exempt Wholesale Generator Status.

Filed Date: 2/28/23.

Accession Number: 20230228-5220.

Comment Date: 5 p.m. ET 3/21/23.

Docket Numbers: EG23-87-000.

Applicants: North Central Valley Energy Storage, LLC.

Description: North Central Valley Energy Storage, LLC submits Notice of Self-Certification of Exempt Wholesale Generator Status.

Filed Date: 2/28/23.

Accession Number: 20230228-5229.

Comment Date: 5 p.m. ET 3/21/23.

Take notice that the Commission received the following electric rate filings:

Docket Numbers: ER23-539-001.

Applicants: Morongo Transmission LLC.

Description: Compliance filing: Deficiency Response in Docket ER23-539 to be effective 1/1/2023.

Filed Date: 2/27/23.

Accession Number: 20230227-5223.

Comment Date: 5 p.m. ET 3/20/23.

Docket Numbers: ER23-577-002.

Applicants: PJM Interconnection, L.L.C.

Description: Tariff Amendment: Amendment of Amended ISA, SA No. 2360, Queue No. AD2-133/Q36 Docket No. ER23-577 to be effective 2/6/2023.

Filed Date: 2/27/23.

Accession Number: 20230227-5187.

Comment Date: 5 p.m. ET 3/20/23.

Docket Numbers: ER23-882-001.

Applicants: PJM Interconnection, L.L.C.

Description: Tariff Amendment: Amendment to Amended ISA and ICSA, SA Nos. 5366 and 5367; Queue No. AB2-161 to be effective 3/20/2023.

Filed Date: 2/28/23.

Accession Number: 20230228-5101.

Comment Date: 5 p.m. ET 3/21/23.

Docket Numbers: ER23-940-001.

Applicants: PJM Interconnection, L.L.C.

Description: Tariff Amendment: Amendment of Amended WMPA, SA No. 5294; Queue No. AC2-120 in Docket No. ER23-940 to be effective 3/27/2023.

Filed Date: 2/28/23.

Accession Number: 20230228-5200.

Comment Date: 5 p.m. ET 3/21/23.

Docket Numbers: ER23-962-001.

Applicants: PJM Interconnection, L.L.C.

Description: Tariff Amendment: Amendment of Amended ISA, SA No. 6116; Queue No. AE1-129 in Docket No. ER23-962 to be effective 3/28/2023.

Filed Date: 2/28/23.

Accession Number: 20230228-5215.

Comment Date: 5 p.m. ET 3/21/23.

Docket Numbers: ER23-1189-000.

Applicants: PJM Interconnection, L.L.C.

Description: § 205(d) Rate Filing: Original ISA and ICSA, Service Agreement Nos. 6810 and 6811; Queue No. AE1-179 to be effective 1/30/2023.

Filed Date: 2/28/23.

Accession Number: 20230228-5044.

Comment Date: 5 p.m. ET 3/21/23.

Docket Numbers: ER23-1190-000.

Applicants: Ohio Power Company, PJM Interconnection, L.L.C.

Description: § 205(d) Rate Filing: Ohio Power Company submits tariff filing per 35.13(a)(2)(iii: AEP and METC submit Amended and Restated Interconnection Agreement, SA No. 4251 to be effective 12/21/2019.

Filed Date: 2/28/23.

Accession Number: 20230228-5068.

Comment Date: 5 p.m. ET 3/21/23.

Docket Numbers: ER23-1191-000.

Applicants: Pacific Gas and Electric Company.

Description: § 205(d) Rate Filing: CCSF Warnerville Substation WPA (TO SA 284) to be effective 1/26/2023.

Filed Date: 2/28/23.

Accession Number: 20230228-5184.

Comment Date: 5 p.m. ET 3/21/23.

Docket Numbers: ER23-1192-000.

Applicants: Arizona Public Service Company.

Description: § 205(d) Rate Filing: Rate Schedule No. 316, Interconnection Agreement with AEPCO at Saguaro to be effective 4/30/2023.

Filed Date: 2/28/23.

Accession Number: 20230228-5223.

Comment Date: 5 p.m. ET 3/21/23.

Docket Numbers: ER23-1194-000.

Applicants: Arizona Public Service Company.

Description: § 205(d) Rate Filing: Service Agreement No. 409, HV Sunrise LLC LGIA to be effective 1/30/2023.

Filed Date: 2/28/23.

Accession Number: 20230228-5235.

Comment Date: 5 p.m. ET 3/21/23.

Docket Numbers: ER23-1195-000.

Applicants: Midcontinent Independent System Operator, Inc.

Description: § 205(d) Rate Filing: 2023-02-28_DIR vis-à-vis Ramp Capability Products Filing to be effective 6/1/2023.

Filed Date: 2/28/23.

Accession Number: 20230228-5254.

Comment Date: 5 p.m. ET 3/21/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2023.
Debbie-Anne A. Reese,
Deputy Secretary.

[FR Doc. 2023-04536 Filed 3-3-23; 8:45 am]

BILLING CODE 6717-01-P